NUCLEAR REGULATORY COMMISSION

Advisory Committee on Reactor Safeguards; Meeting of the Subcommittee on Reactor Fuels; Revised

The agenda for the ACRS Subcommittee on Reactor Fuels scheduled to be held on July 27-28, 2005 has been revised to extend the date to July 29, 2005, Room T-2B3, 11545 Rockville Pike, Rockville, Maryland. On July 29, 2005, the Subcommittee will continue its discussion on the proposed criteria for reactor fuel during LOCAs and reactivity insertion events, from 8:30 a.m., until 5:30 p.m.

The agenda for July 27-28, 2005 remains the same as published in the Federal Register on Wednesday, June 29, 2005 (70 FR 37448).

Further information regarding this meeting can be obtained by contacting Mr. Ralph Caruso, Designated Federal Official (telephone 301-415-8065) between 7:30 a.m. and 4:30 p.m. (ET).

Dated: June 30, 2005.
Sharon A. Steele,
Acting Branch Chief, ACRS/ACNW.

[FR Doc. E5-3557 Filed 7-6-05; 8:45 am]

BILLING CODE 7590-01-P